OFFICE OF THE UNITED STATES TRADE REPRESENTATIVE

Determination Under the African Growth and Opportunity Act (AGOA)

AGENCY: Office of the United States Trade Representative.

ACTION: Notice.

SUMMARY: The U.S. Trade Representative has determined that Mali has adopted an effective visa system and related procedures to prevent the unlawful transshipment of textile and apparel articles and the use of counterfeit documents in connection with the shipment of such articles, and has implemented and follows, or is making substantial progress towards implementing and following, the custom procedures required by the African Growth and Opportunity Act (AGOA). Therefore, imports of eligible products from Mali qualify for the textile and apparel benefits provided under the AGOA.

DATES: This notice is applicable August 4, 2020.

FOR FURTHER INFORMATION CONTACT: Constance Hamilton, Assistant United States Trade Representative for Africa at Constance_Hamilton@ustr.eop.gov or (202) 395-9514.

SUPPLEMENTARY INFORMATION: The AGOA (Title I of the Trade and Development Act of 2000, Pub. L. 106-200, as amended) provides preferential tariff treatment for imports of certain textile and apparel products of beneficiary sub-Saharan African countries. The textile and apparel trade benefits under the AGOA are available to imports of eligible products from countries that the President designates as beneficiary sub-Saharan African countries, provided that these countries: (1) Have adopted an effective visa system and related procedures to prevent the unlawful transshipment of textile and apparel articles and the use of counterfeit documents in connection with shipment of such articles, and (2) have implemented and follow, or are making substantial progress towards implementing and following, certain customs procedures that assist U.S. Customs and Border Protection in verifying the origin of the products.

In Proclamation 9072 dated December 23, 2013, the President designated Mali as a beneficiary sub-Saharan African country and in Proclamation 9555 of October 25, 2019, proclaimed, for the purposes of section 112(c) of the AGOA, that Mali should be considered a lesser developed beneficiary sub-Saharan African country.

In Proclamation 7350 of October 2, 2000, the President authorized the U.S. Trade Representative to perform the function of determining whether eligible sub-Saharan countries have met the two requirements described above. The President directed the U.S. Trade Representative to announce determinations in the Federal Register and to implement them through modifications in the Harmonized Tariff Schedule of the United States (HTSUS).

Based on the actions Mali has taken, the U.S. Trade Representative has determined that Mali has satisfied the two requirements for eligibility for textile and apparel benefits under the AGOA. No modifications to the HTSUS are necessary in order to implement this determination. Imports claiming preferential tariff treatment under the AGOA for entries of textile and apparel articles should ensure that those entries meet the applicable visa requirements. See Visa Requirements Under the African Growth and Opportunity Act, 66 FR 7837 (January 25, 2001).

Edward Gresser,
Chair of the Trade Policy Staff Committee, Office of the United States Trade Representative.

[FR Doc. 2020-15730 Filed 7-20-20; 8:45 am]

BILLING CODE 3290-F0-P